DEPARTMENT OF TRANSPORTATION

Federal Aviation Administration

Notice of Intent To Rule on a Request To Impose and Use a Passenger Facility Charge (PFC) at Hartsfield Jackson Atlanta International Airport, Atlanta, GA

AGENCY: Federal Aviation Administration (FAA), DOT.

ACTION: Notice of intent to rule on application.

SUMMARY: The FAA proposes to rule and invites public comment on a request to impose and use PFC at the Hartsfield Jackson Atlanta International Airport under the provisions of the Aviation Safety and Capacity Expansion Act of 1990 (Title IX of the Omnibus Budget Reconciliation Act of 1990) (Public Law 101-508) and part 158 of the Federal Aviation Regulations (14 CFR part 158).

DATES: Comments must be received on or before July 6, 2004.

ADDRESSES: Comments on this request may be mailed or delivered in triplicate to the FAA at the following address: Atlanta Airports District Office, 1701 Columbia Ave., Suite 2-260, College Park, Georgia 30337-2747.

In addition, one copy of any comments submitted to the FAA must be mailed or delivered to Arthur L. Bacon, Director Of Finance of the City of Atlanta, Department of Aviation at the following address: City of Atlanta, Department of Aviation, P.O. Box 20509, Atlanta, Georgia 30320-2509.

Air carriers and foreign air carriers may submit copies of written comments previously provided to the City of Atlanta, Department of Aviation under § 158.23 of part 158.

FOR FURTHER INFORMATION CONTACT: Terry R. Washington, P.E, Program Manager, Atlanta Airports District Office, 1701 Columbia Ave., Suite 2-260, College Park, Georgia 30337-2747, telephone number (404) 305-7143. The application may be reviewed in person at this same location.

SUPPLEMENTARY INFORMATION: The FAA proposes to rule and invites public comment on the application to impose and use PFC at Hartsfield-Jackson Atlanta International Airport under the provisions of the Aviation Safety and Capacity Expansion Act of 1990 (Title IX of the Omnibus Budget Reconciliation Act of 1990) (Public Law 101-508) and part 158 of the Federal Aviation Regulations (14 CFR part 158).

On April 17, 2004, the FAA determined that the application to Impose and Use PFC submitted by The City of Atlanta was substantially complete within the requirements of § 158.25 of part 158. The FAA will approve or disapprove the application, in whole or in part, no later than July 16, 2004. The following is a brief overview of the application request.

PFC Application No.: 04-06-C-00-ATL.

Level of the proposed PFC: $4.50.

Proposed charge effective date: May 1, 1997.

Proposed charge expiration date: May 1, 2019.

Total estimated net PFC revenue increase: $18,462,000.

Brief description of projects:

1. Security Screening Checkpoint (“SSCP”) Reconfiguration and Expansion Project.

2. Security Access Control System Project.

Class or classes of air carriers which the public agency has requested not be required to collect PFCs: Air Taxi/Commercial Operators (ATCO) when enplaning revenue passengers in limited, irregular, special service operations

Any person may inspect the application in person at the FAA office listed above under FOR FURTHER INFORMATION CONTACT.

In addition, any person may, upon request, inspect the application, notice and other documents germane to the application in person at the City of Atlanta's Department of Aviation.

Issued in College Park, Georgia, on May 26, 2004.
Daniel Gaetan,
Acting Manager, Atlanta Airports District Office, Southern Region.

[FR Doc. 04-12541 Filed 6-2-04; 8:45 am]

BILLING CODE 4910-13-M